DEPARTMENT OF LABOR

Employment and Training Administration

[TA-W-38,706]

Sample Service; Long Island, NY; Notice of Termination of Investigation

Pursuant to section 221 of the Trade Act of 1974, an investigation was initiated on February 20, 2001 in response to a petition filed on behalf of workers at Sample Service, Long Island, New York.

The Department of Labor was unable to contact the owner of the subject firm to obtain information to make a determination. Consequently, further investigation in this case would serve no purpose, and the investigation has been terminated.

Signed in Washington, DC this 8th day of June, 2001
Edward A. Tomchick,
Certifying Officer, Division of Trade Adjustment Assistance.

[FR Doc. 01-16076 Filed 6-26-01; 8:45 am]

BILLING CODE 4510-30-M